DEPARTMENT OF TRANSPORTATION

Federal Aviation Administration

Notice of Intent To Rule on Passenger Facility Charge (PFC) Application 10-16-U-00-OAK To Use PFC Revenue, Collected at Metropolitan Oakland International Airport, Oakland, CA

AGENCY: Federal Aviation Administration (FAA), DOT.

ACTION: Notice of Intent to Rule on Application.

SUMMARY: The FAA proposes to rule and invites public comment on the application to use PFC revenue collected at Metropolitan Oakland International Airport, under the provisions of the Aviation Safety and Capacity Expansion Act of 1990 (Title IX of the Omnibus Budget Reconciliation Act of 1990) (Pub. L. 101-508) and Part 158 of the Federal Aviation Regulations (Title 14 CFR part 158).

DATES: Comments must be received on or before November 16, 2011.

ADDRESSES: Comments on this application may be mailed or delivered in triplicate to the FAA at the following address: Federal Aviation Administration, Airports Division, 15000 Aviation Blvd., Room 3012, Lawndale, CA 90261. In addition, one copy of any comments submitted to the FAA must be mailed or delivered to Ms. Deborah Ale-Flint, Director of Aviation, Metropolitan Oakland International Airport, at the following address: Port of Oakland, 530 Water Street, Oakland, California 94604. Air carriers and foreign air carriers may submit copies of written comments previously provided to the Port of Oakland under section 158.23 of part 158.

FOR FURTHER INFORMATION CONTACT: Arlene Draper, Assistant Manager, San Francisco Airports District Office, 831 Mitten Road, Room 210, Burlingame, CA 94010-1303, Telephone: (650) 876-2778, extension 601. The application may be reviewed in person at this same location.

SUPPLEMENTARY INFORMATION: The FAA proposes to rule and invites public comment on the application to use PFC revenue collected at Metropolitan Oakland International Airport under the provisions of the 49 U.S.C. 40117 and Part 158 of the Federal Aviation Regulations (Title 14 CFR part 158).

On October 11, 2011, the FAA determined that the application to use PFC revenue submitted by the Port of Oakland was substantially complete within the requirements of section 158.25 of Part 158. The FAA will approve or disapprove the application, in whole or in part, no later than January 18, 2012.

The following is a brief overview of the use application No. 11-16-U-00-OAK:

Proposed charge effective date: April 1, 2021.

Proposed charge expiration date: May 1, 2023.

Level of the proposed PFC: $3.00.

Total estimated PFC revenue: $70,259,000.

Description of Proposed Project

Use PFC only: San Francisco Bay Area Rapid Transit District (BART) Airport Connector—The project will provide a direct people mover connection between the Coliseum BART station and Metropolitan Oakland International Airport.

Any person may inspect the application in person at the FAA office listed above under FOR FURTHER INFORMATION CONTACT and at the FAA Regional Airports Division located at: Federal Aviation Administration, Airports Division, 15000 Aviation Blvd., Room 3012, Lawndale, CA 90261. In addition, any person may, upon request, inspect the application, notice and other documents germane to the application in person at the Port of Oakland.

Issued in Lawndale, California, on October 11, 2011.
Debbie Roth,
Deputy Manager, Airports Division, Western-Pacific Region.

[FR Doc. 2011-26792 Filed 10-14-11; 8:45 am]

BILLING CODE 4910-13-P